DEPARTMENT OF AGRICULTURE

Forest Service

Notice of New Fee Site; Federal Lands Recreation Enhancement Act, (Title VIII, Pub. L. 108-447)

AGENCY: Bridger-Teton National Forest, Forest Service USDA.

ACTION: Notice of new fee site.

SUMMARY: The Bridger-Teton National Forest is planning to charge a $40 fee for the overnight rental of each of the Sherman Guard Station Cabins. The cabins have not been available for recreation use prior to this date. Rentals of other cabins on the Bridger-Teton National Forest have shown that people appreciate and enjoy the availability of historic rental cabins. Funds from the rental will be used for the continued operation and maintenance of the Sherman Guard Station Cabins.

DATES: The Sherman Guard Station Cabins will become available for recreation rental in July, 2007.

ADDRESSES: Forest Supervisor, Bridger-Teton National Forest, P.O. Box 1888, 340 Cache, Jackson, WY 83001.

FOR FURTHER INFORMATION CONTACT: Gary Hayward, Resource Specialist, 307-276-5813 or Timothy Ditton, Office Automation Clerk, 307-276-5800.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Bridger-Teton National Forest currently has four other cabin rentals. These rentals are regularly booked throughout their rental season. A business analysis of Historic Guard Station Cabins has shown that people desire having this sort of recreation experience on the Bridger-Teton National Forest. A market analysis indicates that the $40/per night fee is both reasonable and acceptable for this sort of unique recreation experience.

People wanting to rent the Sherman Guard Station Cabins will need to do so through the National Recreation Reservation Service, at http://www.reserveusa.com or by calling 1-877-444-6777. The National Recreation Reservation Service charges a $9 fee for reservations.

Dated: February 8, 2007.
Kniffy Hamilton,
Bridger-Teton National Forest Supervisor.

[FR Doc. 07-843 Filed 2-23-07; 8:45 am]

BILLING CODE 3410-11-M